DEPARTMENT OF THE TREASURY

Office of Foreign Assets Control

Sanctions Actions Pursuant to Executive Orders 13660 and 13685

AGENCY: Office of Foreign Assets Control, Treasury.

ACTION: Notice.

SUMMARY: The Treasury Department's Office of Foreign Assets Control (OFAC) is publishing the names of sixteen persons whose property and interests in property are blocked pursuant to one or more of the following authorities: Executive Order (E.O.) 13660 and E.O. 13685.

DATES: OFAC's actions described in this notice were effective on March 11, 2015, as further specified below.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.: 202/622-0077.

Notice of OFAC Actions

On March 11, 2015, OFAC blocked the property and interests in property of the following fifteen persons pursuant to E.O. 13660, “Blocking Property of Certain Persons Contributing to the Situation in Ukraine”:

Individuals

1. ARBUZOV, Serhiy (a.k.a. ARBUZOV, Sergey G.; a.k.a. ARBUZOV, Serhiy Hennadiyovych); DOB 24 Mar 1976; POB Donetsk, Ukraine; Former First Deputy Prime Minister of Ukraine (individual) [UKRAINE-EO13660].

2. AZAROV, Mykola Yanovych (a.k.a. AZAROV, Mykola Nikolai Yanovych; a.k.a. PAKHLO, Nikolai Yanovich); DOB 17 Dec 1947; POB Kaluga, Russia; Former Prime Minister of Ukraine (individual) [UKRAINE-EO13660].

3. KOZYURA, Oleg Grigorievich (a.k.a. KOZYURA, Oleg Grigoryevich); DOB 19 Dec 1962; POB Zaporozhye, Ukraine; Head of the Office of the Federal Migration Service in the City of Sevastopol (individual) [UKRAINE-EO13660].

4. DUGIN, Aleksandr (a.k.a. DUGIN, Aleksandr Gelyevich; a.k.a. DUGIN, Alexander Gelyevich); DOB 07 Jan 1962 (individual) [UKRAINE-EO13660].

5. KANISHCHEV, Pavel; DOB 1986 (individual) [UKRAINE-EO13660].

6. KOVALENKO, Andrey; DOB 30 Dec 1985 (individual) [UKRAINE-EO13660].

7. ZDRILIUK, Serhii Anatoliyovych (a.k.a. ZDRILIUK, Serghiei; a.k.a. ZDRILYUK, Sergei; a.k.a. ZDRILYUK, Sergey; a.k.a. ZDRYLYUK, Serhiy); DOB 23 Jun 1972; POB Vinnytsia Region, Ukraine; nationality Ukraine; citizen Russia (individual) [UKRAINE-EO13660].

8. ABISOV, Sergei (a.k.a. ABISOV, Sergei Vadimovich); DOB 27 Nov 1967; POB Simferopol, Crimea, Ukraine (individual) [UKRAINE-EO13660].

9. GUBAREVA, Ekaterina (a.k.a. GUBAREVA, Yekaterina); DOB 05 Jul 1983 (individual) [UKRAINE-EO13660].

10. LYAGIN, Roman (a.k.a. LIAGIN, Roman; a.k.a. LIAHIN, Roman; a.k.a. LYAHIN, Roman); DOB 30 May 1980; POB Donetsk, Ukraine (individual) [UKRAINE-EO13660].

11. KARAMAN, Aleksandr (a.k.a. CARAMAN, Aleksandru; a.k.a. KARAMAN, Alexander; a.k.a. KARAMAN, Oleksandr); DOB 26 Jul 1956; POB Republic of Mordovia, Russia (individual) [UKRAINE-EO13660].

12. BOHATYRIOVA, Raisa Vasylivna (a.k.a. BOGATYRIOVA, Raisa; a.k.a. BOGATYROVA, Raisa; a.k.a. BOGATYRYOVA, Raisa; a.k.a. BOHATYREVA, Raisa; a.k.a. BOHATYROVA, Raisa; a.k.a. BOHATYRYOVA, Raisa; a.k.a. BOHATYRYOVA, Rayisa); DOB 06 Jan 1953; POB Bakal, Chelyabinsk, Russia (individual) [UKRAINE-EO13660].

13. KHODAKOVSKYY, Oleksandr Sergeyevich (a.k.a. KHODAKOVSKIY, Aleksandr; a.k.a. KHODAKOVSKY, Alexander); DOB 18 Dec 1972; POB Donetsk, Ukraine (individual) [UKRAINE-EO13660].

14. IVAKIN, Yuriy Vladimirovich (a.k.a. IVAKIN, Yurii); DOB 13 Aug 1954; POB Perevalsk, Ukraine (individual) [UKRAINE-EO13660].

Entity

1. EURASIAN YOUTH UNION, Russia 3, Bagrationovskiy Proezd, House 7, Area 20 “B”, Office 405, Moscow 121087, Russia; Web site http://rossia3.ru; Email Address esm@rossia3.ru [UKRAINE-EO13660].

On March 11, 2015, OFAC blocked the property and interests in property of the following person pursuant to E.O. 13685, “Blocking Property of Certain Persons and Prohibiting Certain Transactions With Respect to the Crimea Region of Ukraine”:

Entity

1. RUSSIAN NATIONAL COMMERCIAL BANK (a.k.a. RNKB OAO; a.k.a. ROSSISKI NATSIONALNY KOMMERCHESKI BANK OTKRYTOE AKTSIONERNOE OBSHCHESTVO; a.k.a. “RNCB”), d. 9 korp. 5 ul.Krasnoproletarskaya, Moscow 127030, Russia; SWIFT/BIC RNCO RU MM; Web site http://www.rncb.ru; Email Address rncb@rncb.ru; BIK (RU) 044525607; Registration ID 1027700381290 (Russia); Tax ID No. 7701105460 (Russia); Government Gazette Number 09610705 (Russia) [UKRAINE-EO13685].

Dated: March 11, 2015.
John E. Smith,
Acting Director, Office of Foreign Assets Control.

[FR Doc. 2015-06056 Filed 3-16-15; 8:45 am]

BILLING CODE 4810-AL-P